DEPARTMENT OF JUSTICE

Drug Enforcement Administration

Samuel Silas Jackson, D.D.S.; Revocation of Registration

On March 5, 2002, the Deputy Assistant Administrator, Office of Diversion Control, Drug Enforcement Administration (DEA), issued an Order to Show Cause to Samuel Silas Jackson, D.D.S. of Nashville, Tennessee, notifying him of an opportunity to show cause as to why DEA should not revoke his DEA Certificate of Registration, BJ5820558 under 21 U.S.C. 824(a)(2), (a)(3), and (a)(4), and deny any pending applications for renewal or modification of that registration for reason that Dr. Jackson was convicted of a felony offense related to controlled substances, is not authorized to handle controlled substances in the State of Tennessee, and his continued registration would be inconsistent with the public interest. The order also notified Dr. Jackson that should no request for a hearing be filed within 30 days, his hearing right would be deemed waived.

The Order to Show Cause was sent by certified mail to Dr. Jackson at his registered location in Nashville, Tennessee, and DEA received a signed receipt indicating that it was received on March 11, 2002. A second copy of the Order to Show Cause was sent by certified mail to Dr. Jackson at a location in Forrest City, Arkansas. DEA again received a signed receipt indicating that the Order to Show Cause was received on behalf of Dr. Jackson. DEA has not received a request for hearing or any other reply from Dr. Jackson or anyone purporting to represent him in this matter.

Therefore, the Deputy Administrator, finding that (1) 30 days have passed since the receipt of the Order to Show Cause, and (2) no request for a hearing having been received, concludes that Dr. Jackson is deemed to have waived his hearing right. After considering material from the investigative file in this matter, the Deputy Administrator now enters his final order without a hearing pursuant to 21 CFR 1301.43(d) and (e) and 1301.46.

The Deputy Administrator finds that on January 24, 2002, Dr. Jackson entered into an Agreed Order of Revocation with the Tennessee Department of Health, Board of Dentistry (the Board). As the caption of the order suggests, Dr. Jackson agreed to the revocation of his state license to practice dentistry. The Board found, inter alia, that Dr. Jackson entered into a conspiracy with a known drug trafficker/federal fugitive and with a confidential informant with the Drug Enforcement Administration; and that Dr. Jackson conspired with others to perform dental work and arrange for plastic surgery in California for two fugitives. These actions by Dr. Jackson were carried out for the purpose of altering the fugitives' dental records and physical appearance, and to aid their avoiding identification and apprehension by law enforcement officers. The Board also found that on or about March 16, 2000, Dr. Jackson entered a guilty plea in the United States District Court for the Middle District of Tennessee to one felony count of conspiracy to be an accessory after the fact, in violation of 18 U.S.C. 371 and 373.

There is no evidence in the record that Dr. Jackson's license to medicine in the State of Tennessee has been reinstated. Therefore, the Deputy Administrator finds that since Dr. Jackson is not currently authorized to practice medicine in the State of Tennessee, it is reasonable to infer that he is not authorized to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Joseph Thomas Allevi, M.D., 67 FR 35581 (2002); Dominick A. Ricci, M.D., 58 FR 51104 (1993); Bobby Watts, M.D., 53 FR 11919 (1988).

Here, it is clear that Dr. Jackson is not licensed to handle controlled substances in Tennessee, where he is registered with DEA. Therefore, he is not entitled to maintain that registration. Because Dr. Jackson is not entitled to a DEA registration in Tennessee due to his lack of state authorization to handle controlled substances, the Deputy Administrator concludes that it is unnecessary to address whether Dr. Jackson's registration should be revoked based upon the other grounds asserted in the Order to Show Cause. See Nathaniel-Aikens-Afful, M.D., 62 FR 16871 (1997).

Accordingly, the Deputy Administrator of the Drug Enforcement Administration, pursuant to the authority vested in him by 21 U.S.C. 823 and 824 and 28 CFR 0.100(b) and 0.104, hereby orders that DEA Certificate of Registration, BJ5820558, issued to Samuel Silas Jackson, D.D.S., be, and it hereby is, revoked. The Deputy Administrator further orders that any pending applications for renewal of such registration be, and they hereby are, denied. This order is effective November 22, 2002.

Dated: October 1, 2002.
John B. Brown, III,
Deputy Administrator.

[FR Doc. 02-26967 Filed 10-22-02; 8:45 am]

BILLING CODE 4410-09-M